INTERNATIONAL TRADE COMMISSION

[Investigation No. 332-565]

American Manufacturing Competitiveness Act: Effects of Duty Suspensions and Reductions on the U.S. Economy; Submission of Questionnaire for OMB Review

AGENCY: United States International Trade Commission.

ACTION: Notice of submission of request for approval of a questionnaire to the Office of Management and Budget. This notice is being given pursuant to the Paperwork Reduction Act of 1995 (44 U.S.C. Chapter 35).

SUPPLEMENTARY INFORMATION:

Purpose of Information Collection: The information requested by the questionnaire is for use by the Commission in connection with investigation No. 332-565, American Manufacturing Competitiveness Act: Effects of Duty Suspensions and Reductions on the U.S. Economy. Section 4 of the American Manufacturing Competitiveness Act (AMCA) (19 U.S.C. 1332 note) requires the Commission to submit a report to the House Committee on Ways and Means and the Senate Committee on Finance on the effects on the U.S. economy of duty suspensions and reductions enacted under the AMCA, including the effects on U.S. producers, purchasers, and consumers. The Commission instituted the investigation under section 332 of the Tariff Act of 1930 (19 U.S.C. 1332) to prepare the report, to facilitate the filing of public comments and public review of those comments, and to include the report in an existing Commission report series. The Commission expects to deliver its report to the Committees by September 13, 2019.

Summary of Proposal

(1) Number of forms submitted: 1.

(2) Title of form: American Manufacturing Competitiveness Act: Effects of Temporary Duty Suspensions and Reductions on the U.S. Economy.

(3) Type of request: New.

(4) Frequency of use: Industry questionnaire, single data gathering, scheduled for January 2019.

(5) Description of respondents: Firms that successfully petitioned for temporary duty suspensions or reductions and firms that commented on these petitions through the Miscellaneous Tariff Bill Petition System.

(6) Estimated number of questionnaires to be mailed: 400.

(7) Estimated total number of hours to complete the questionnaire per respondent: 4 hours.

(8) Information obtained from the questionnaire that qualifies as confidential business information will be so treated by the Commission and not disclosed in a manner that would reveal the individual operations of a firm.

Additional Information or Comment: Project leadership for this study includes Kimberlie Freund (project leader) and Samantha DeCarlo and Maureen Letostak (deputy project leaders). Copies of the questionnaire and supporting documents may be obtained from the project leaders by phone at 202-205-3342 or 202-205-3225 or by email at mtbeffects@usitc.gov. Comments about the proposal should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Jason Mohler, Interim Chief Information Officer, U.S. International Trade Commission, 500 E Street SW, Washington, DC 20436, who is the Commission's designated Senior Official under the Paperwork Reduction Act.

General information concerning the Commission may also be obtained by accessing its internet address (https://www.usitc.gov). Hearing-impaired individuals are advised that information on this matter can be obtained by contacting the TDD terminal on 202-205-1810. Persons with mobility impairments who will need special assistance in gaining access to the Commission should contact the Secretary at 202-205-2000.

By order of the Commission.
Dated: Issued: November 20, 2018.
Lisa Barton,
Secretary to the Commission.

[FR Doc. 2018-25725 Filed 11-26-18; 8:45 am]

BILLING CODE 7020-02-P